DEPARTMENT OF TRANSPORTATION

Federal Aviation Administration

14 CFR Part 93

[Docket No.: FAA-2024-1669; Amdt. No. 93-104]

RIN 2120-AM01

Valparaiso, Florida, Terminal Area

AGENCY: Federal Aviation Administration (FAA), DOT.

ACTION: Final rule.

SUMMARY: This action updates five latitude/longitude points in the description of the East-West Corridor of the Valparaiso, Florida, Terminal Area. The changes are needed to reconcile the coordinates of U.S. maritime limits described in the Valparaiso Terminal Area description with those maritime limits published by the National Oceanic and Atmospheric Administration (NOAA) pursuant to its statutory authority. The FAA has developed these revised coordinates using updated digital data that more precisely define maritime limits and other geophysical features used in the boundary descriptions. This action is administrative and does not make substantive changes to the Valparaiso, Florida, Terminal Area.

DATES: Effective 0901 UTC, August 23, 2024.

FOR FURTHER INFORMATION CONTACT: Robert Schafer, Rules and Regulations Group, Office of Policy, Federal Aviation Administration, 800 Independence Avenue SW, Washington, DC 20591; telephone: (202) 267-8783.

SUPPLEMENTARY INFORMATION:

I. Authority and Good Cause

A. Authority

The FAA's authority to issue rules regarding aviation safety is found in title 49 of the United States Code, subtitle I, section 106 describes the authority of the FAA Administrator. Subtitle VII, Aviation Programs, describes in more detail the scope of the agency's authority.

This rulemaking is promulgated under the authority described in subtitle VII, part A, subpart I, section 40103. Under that section, the FAA is charged with prescribing regulations to assign the use of the airspace necessary to ensure the safety of aircraft and the efficient use of airspace. This regulation is within the scope of that authority as it supports updating certain boundary coordinates for the special air traffic rules for aircraft operating in the Valparaiso, Florida, Terminal Area.

B. Good Cause for Immediate Adoption

Section 553(b)(B) of the Administrative Procedure Act (APA) (5 U.S.C.) authorizes agencies to dispense with notice and comment procedures for rules when the agency for “good cause” finds that those procedures are “impracticable, unnecessary, or contrary to the public interest.” Under this section, an agency, upon finding good cause, may issue a final rule without seeking comment prior to the rulemaking.

The FAA has no discretion to change these coordinates. Therefore, the FAA finds that notice and public comment is unnecessary. This is an amendment to reconcile the coordinates of U.S. maritime limits described in the Valparaiso Terminal Area description with those maritime limits published by the National Oceanic and Atmospheric Administration (NOAA) pursuant to its statutory authority in title 33, United States Code, sections 883a-883d. This rule is an administrative reconciliation and does not affect the airspace's altitude or operating requirements. Therefore, the FAA has determined that notice and public comment are unnecessary.

II. Background and Discussion of the Final Rule

The boundary coordinates and descriptions for the special air traffic rules for aircraft operating in the Valparaiso, Florida, Terminal Area are linked to the overlying restricted area latitude/longitude coordinates. These restricted area boundary descriptions use maritime limits, such as references to the shoreline of the United States (U.S.), to identify the shape of the area (e.g., “3 [nautical miles (NM)] from and parallel to the shoreline”). As such, the boundary descriptions contain latitude/longitude coordinates that were intended to intersect a line running 3 NM from and parallel to the shoreline.

In 2018, following its receipt of updated digital data for maritime limits from the NOAA, the FAA published a final rule for Docket No. FAA-2018-0728 in the Federal Register (83 FR 40967, August 17, 2018), updating the overlying restricted airspace boundary descriptions in title 14 Code of Federal Regulations (14 CFR) part 73 to align with the NOAA's digital data. In that rulemaking, the FAA explained that its use of the NOAA's more precise digital data allowed it to accurately update the U.S. maritime limit boundaries used for aeronautical charting. Prior to the update, the maritime limit boundary data used for charting were over 25 years old. In applying the updated data, the FAA found that some boundary descriptions, based on the maritime limits, did not correspond to the updated shoreline data. Consequently, there were minor differences between some special flight rules areas latitude/longitude coordinates and the overlying restricted airspace.

This rulemaking action amends 14 CFR part 93 to similarly update the East-West Corridor of the Valparaiso, Florida, Terminal Area, to ensure that the published boundaries match the actual relation to both the U.S. shoreline and overlying restricted airspace to maintain aeronautical chart accuracy and consistency.

Specifically, this action amends 14 CFR part 93 by updating the coordinates of five points in the description of the East-West Corridor of the Valparaiso, Florida, Terminal Area. The points under § 93.81(b) are amended as follows:

Location | Original points | New points
§ 93.81(b)(1) | lat. 30°22′47″ N, long. 86°51′30″ W | lat. 30°22′47″ N, long. 86°51′30″ W
| lat. 30°23′46″ N, long. 86°38′15″ W | lat. 30°23′46″ N, long. 86°38′15″ W
| lat. 30°20′51″ N, long. 86°38′50″ W | lat. 30°20′47″ N, long. 86°38′51″ W *
| lat. 30°19′31″ N, long. 86°51′30″W | lat. 30°19′45″ N, long. 86°51′30″ W *
§ 93.81(b)(2) | lat. 30°25′01″ N, long. 86°38′12″ W | lat. 30°25′01″ N, long. 86°38′12″ W
| lat. 30°25′01″ N, long. 86°25′00″ W | lat. 30°25′01″ N, long. 86°25′00″ W
| lat. 30°25′01″ N, long. 86°22′26″ W | lat. 30°25′01″ N, long. 86°22′26″ W
| lat. 30°19′46″ N, long. 86°23′45″ W | lat. 30°19′46″ N, long. 86°23′45″ W
| lat. 30°20′51″ N, long. 86°38′50″ W | lat. 30°20′47″ N, long. 86°38′51″ W *
| lat. 30°23′46″ N, long. 86°38′15″ W | lat. 30°23′46″ N, long. 86°38′15″ W
§ 93.81(b)(3) | lat. 30°25′01″ N, long. 86°22′26″ W | lat. 30°25′01″ N, long. 86°22′26″ W
| lat. 30°22′01″ N, long. 86°08′00″ W | lat. 30°22′01″ N, long. 86°08′00″ W
| lat. 30°19′16″ N, long. 85°56′00″ W | lat. 30°19′16″ N, long. 85°56′00″ W
| lat. 30°11′01″ N, long. 85°56′00″ W | lat. 30°11′08″ N, long. 85°56′00″ W *
| lat. 30°19′46″ N, long. 86°23′45″ W | lat. 30°19′41″ N, long. 86°23′46″ W *
* Indicates those points revised in this final rule.

III. Regulatory Notices and Analyses

Federal agencies consider impacts of regulatory actions under a variety of Executive orders and other requirements. First, Executive Order 12866 and Executive Order 13563, as amended by Executive Order 14094 (“Modernizing Regulatory Review”), direct that each Federal agency shall propose or adopt a regulation only upon a reasoned determination that the benefits of the intended regulation justify the costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. Fourth, the Unfunded Mandates Reform Act of 1995 (Pub. L. 104-4) requires agencies to prepare a written assessment of the costs, benefits, and other effects of proposed or final rules that include a Federal mandate that may result in the expenditure by State, local, and Tribal governments, in the aggregate, or by the private sector, of $100 million or more (adjusted annually for inflation) in any one year. The current threshold after adjustment for inflation is $183 million using the most current (2023) Implicit Price Deflator for the Gross Domestic Product. This portion of the preamble summarizes the FAA's analysis of the economic impacts of this rule.

In conducting these analyses, the FAA has determined this final rule has benefits that justify its costs. This rule is not a significant regulatory action, as defined in section 3(f) of Executive Order 12866 as amended by Executive Order 14094. As 5 U.S.C. 553 does not require notice and comment for this final rule, 5 U.S.C. 603 and 604 do not require regulatory flexibility analyses regarding impacts on small entities. This rule will not create unnecessary obstacles to the foreign commerce of the United States. This rule will not impose an unfunded mandate on State, local, or Tribal governments, or on the private sector, by exceeding the threshold identified previously.

A. Regulatory Impact Analysis

This rule is not a significant regulatory action as defined by section 3(f) of Executive Order 12866 as amended by Executive Order 14094. This action updates five latitude/longitude points in the description of the East-West Corridor of the Valparaiso, Florida, Terminal Area. The changes are needed because the FAA has adopted updated digital data that more precisely define maritime limits and other geophysical features used in the boundary descriptions. This action is administrative and does not make substantive changes to the Valparaiso, Florida, Terminal Area.

B. Regulatory Flexibility Act

The Regulatory Flexibility Act (RFA), in 5 U.S.C. 603, requires an agency to prepare an initial regulatory flexibility analysis describing impacts on small entities whenever 5 U.S.C. 553 or any other law requires an agency to publish a general notice of proposed rulemaking for any proposed rule. Similarly, 5 U.S.C. 604 requires an agency to prepare a final regulatory flexibility analysis when an agency issues a final rule under 5 U.S.C. 553 after that section or any other law requires publication of a general notice of proposed rulemaking. The FAA concludes good cause exists to forgo notice and comment for this rule. As 5 U.S.C. 553 does not require notice and comment in this situation, 5 U.S.C. 603 and 604 similarly do not require regulatory flexibility analyses.

C. International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards.

The FAA has assessed the potential effect of this final rule and determined that it ensures the safety of the American public and does not exclude imports that meet this objective. As a result, the FAA does not consider this final rule as creating an unnecessary obstacle to foreign commerce.

D. Unfunded Mandates Assessment

The Unfunded Mandates Reform Act of 1995 (2 U.S.C. 1531-1538) governs the issuance of Federal regulations that require unfunded mandates. An unfunded mandate is a regulation that requires a State, local, or Tribal government or the private sector to incur direct costs without the Federal Government having first provided the funds to pay those costs. The FAA determined that the final rule will not result in the expenditure of $183 million or more by State, local, or Tribal governments, in the aggregate, or the private sector, in any one year.

E. Paperwork Reduction Act

The Paperwork Reduction Act of 1995 (44 U.S.C. 3507(d)) requires that the FAA consider the impact of paperwork and other information collection burdens imposed on the public. The FAA has determined that there will be no new requirement for information collection associated with this final rule.

F. International Compatibility and Cooperation

In keeping with U.S. obligations under the Convention on International Civil Aviation, it is FAA policy to conform to International Civil Aviation Organization (ICAO) Standards and Recommended Practices to the maximum extent practicable. The FAA has determined that there are no ICAO Standards and Recommended Practices that correspond to these regulations.

G. Environmental Analysis

FAA Order 1050.1F identifies FAA actions that are categorically excluded from preparation of an environmental assessment or environmental impact statement under the National Environmental Policy Act (NEPA) in the absence of extraordinary circumstances. The FAA has determined this rulemaking action qualifies for the categorical exclusion identified in paragraph 5-6.6f for regulations and involves no extraordinary circumstances.

IV. Executive Order Determinations

A. Executive Order 13132, Federalism

The FAA has analyzed this final rule under the principles and criteria of Executive Order 13132, Federalism. The FAA has determined that this action will not have a substantial direct effect on the States, or the relationship between the Federal Government and the States, or on the distribution of power and responsibilities among the various levels of government, and, therefore, will not have federalism implications.

B. Executive Order 13211, Regulations That Significantly Affect Energy Supply, Distribution, or Use

The FAA analyzed this final rule under Executive Order 13211, Actions Concerning Regulations that Significantly Affect Energy Supply, Distribution, or Use. The FAA has determined that it is not a “significant energy action” under the Executive order and is not likely to have a significant adverse effect on the supply, distribution, or use of energy.

C. Executive Order 13609, Promoting International Regulatory Cooperation

Executive Order 13609, Promoting International Regulatory Cooperation, promotes international regulatory cooperation to meet shared challenges involving health, safety, labor, security, environmental, and other issues and to reduce, eliminate, or prevent unnecessary differences in regulatory requirements. The FAA has analyzed this action under the policies and agency responsibilities of Executive Order 13609, and has determined that this action will have no effect on international regulatory cooperation.

V. Additional Information

A. Electronic Access and Filing

A copy of this final rule and all background material may be viewed online at www.regulations.gov using the docket number listed above. A copy of this final rule will be placed in the docket. Electronic retrieval help and guidelines are available on the website. It is available 24 hours a day, 365 days a year. An electronic copy of this document may also be downloaded from the Office of the Federal Register's website at www.federalregister.gov and the Government Publishing Office's website at www.govinfo.gov. A copy may also be found on the FAA's Regulations and Policies website at www.faa.gov/regulations_policies.

Copies may also be obtained by sending a request to the Federal Aviation Administration, Office of Rulemaking, ARM-1, 800 Independence Avenue SW, Washington, DC 20591, or by calling (202) 267-9677.

All documents the FAA considered in developing this final rule, including economic analyses and technical reports, may be accessed in the electronic docket for this rulemaking.

B. Small Business Regulatory Enforcement Fairness Act

The Small Business Regulatory Enforcement Fairness Act (SBREFA) of 1996 requires the FAA to comply with small entity requests for information or advice about compliance with statutes and regulations within its jurisdiction. A small entity with questions regarding this document may contact its local FAA official or the person listed under the FOR FURTHER INFORMATION CONTACT heading at the beginning of the preamble. To find out more about SBREFA on the internet, visit www.faa.gov/regulations_policies/rulemaking/sbre_act/.

List of Subjects in 14 CFR Part 93

Air traffic control, airports, airspace, navigation (air).

The Amendment

In consideration of the foregoing, the Federal Aviation Administration amends chapter I of title 14, Code of Federal Regulations as follows:

PART 93—SPECIAL AIR TRAFFIC RULES

1. The authority citation for part 93 continues to read as follows:

Authority: 49 U.S.C. 106(f), 106(g), 40103, 40106, 40109, 40113, 44502, 44514, 44701, 44715, 44719, 46301.

2. Amend § 93.81 by revising the paragraph heading for paragraph (a) and paragraph (b) to read as follows:

§ 93.81 Applicability and description of area.

* * * * *

(a) North-South Corridor. * * *

(b) East-West Corridor. The East-West Corridor is divided into three sections to accommodate the different altitudes as portions of the corridor underlie restricted areas R-2915C, R-2919B, and R-2914B.

(1) The west section includes that airspace extending upward from the surface to but not including 8,500 feet MSL, bounded by a line beginning at: Latitude 30°22′47″ N, Longitude 86°51′30″ W: then along the shoreline to Latitude 30°23′46″ N, Longitude 86°38′15″ W; to Latitude 30°20′47″ N, Longitude-86°38′51″ W”; then 3 NM from and parallel to the shoreline to Latitude 30°19′45″ N, Longitude 86°51′30″ W”; to the beginning.

(2) The center section includes that airspace extending upward from the surface to but not including 18,000 feet MSL, bounded by a line beginning at: Latitude 30°25′01″ N, Longitude 86°38′12″ W; to Latitude 30°25′01″ N, Longitude 86°25′00″ W; to Latitude 30°25′01″ N, Longitude 86°22′26″ W; to Latitude 30°19′46″ N, Longitude 86°23′45″ W; then 3 NM from and parallel to the shoreline to Latitude 30°20′47″ N, Longitude 86°38′51″ W; to Latitude 30°23′46″ N, Longitude 86°38′15″ W; to the beginning.

(3) The east section includes that airspace extending upward from the surface to but not including 8,500 feet MSL, bounded by a line beginning at: Latitude 30°25′01″ N, Longitude 86°22′26″ W; to Latitude 30°22′01″ N, Longitude 86°08′00″ W; to Latitude 30°19′16″ N, Longitude 85°56′00″ W; to Latitude 30°11′08″ N, Longitude 85°56′00″ W; then 3 NM from and parallel to the shoreline to Latitude 30°19′41″ N, Longitude 86°23′46″ W; to the beginning.

Issued under authority provided by 49 U.S.C. 106(f) and 40103 in Washington, DC.
Michael Gordon Whitaker,
Administrator.

[FR Doc. 2024-13737 Filed 6-21-24; 8:45 am]

BILLING CODE 4910-13-P